DEPARTMENT OF LABOR

Employment and Training Administration

Public Meeting of the Advisory Committee on Apprenticeship (ACA)

AGENCY: Employment and Training Administration, Labor.

ACTION: Notice of an open ACA meeting.

SUMMARY: Pursuant to section 10 of the Federal Advisory Committee Act (Pub. L. 92-463; 5 U.S.C. APP. 1), notice is hereby given of an open meeting of the Advisory Committee on Apprenticeship (ACA).

Time and Date: The meeting will begin at approximately 8:30 a.m. on Wednesday, May 14, 2008, and continue until approximately 4:30 p.m. The meeting will reconvene at approximately 8:30 a.m. on Thursday, May 15, 2008, and adjourn at approximately 4:30 p.m.

Place: Sheraton Atlanta Hotel, 165 Courtland Street, NE., Atlanta, Georgia 30303, (404) 659-6500.

The agenda is subject to change due to time constraints and priority items which may come before the Committee between the time of this publication and the scheduled date of the ACA meeting.

FOR FURTHER INFORMATION CONTACT: Mr. John V. Ladd, Administrator, Office of Apprenticeship, Employment and Training Administration (ETA), U.S. Department of Labor, Room N-5311, 200 Constitution Avenue, NW., Washington, DC 20210. Telephone: (202) 693-2796, (this is not a toll-free number).

Matters To Be Considered: The agenda will focus on the following topics:

• Employment and Training Administration Updates

• Office of Apprenticeship Updates

• NPRM & Regulatory Update

• Integration & Transformation: Apprenticeship and the Workforce System

• Education and Outreach

• Apprenticeship Opportunities in “Green” Industries

Status: Members of the public are invited to attend the proceedings. Individuals with disabilities should contact Ms. Kenya Huckaby at (202) 693-3795 no later than Wednesday, May 7, 2008, if special accommodations are needed.

Any member of the public who wishes to file written data or comments pertaining to the agenda may do so by sending the data or comments to Mr. John V. Ladd, Administrator, Office of Apprenticeship, U.S. Department of Labor, Room N-5311, 200 Constitution Avenue, NW., Washington, DC 20210. Such submissions should be sent by Wednesday, May 7, 2008, to be included in the record for the meeting.

Any member of the public who wishes to speak at the meeting should indicate the nature of the intended presentation and the amount of time needed by furnishing a written statement to the Designated Federal Official, Mr. John V. Ladd, by Wednesday, May 7, 2008. The Chairperson will announce at the beginning of the meeting the extent to which time will permit the granting of such requests.

Signed at Washington, DC, this 7th day of April 2008.
Brent R. Orrell,
Acting Assistant Secretary for Employment and Training Administration.

[FR Doc. E8-7905 Filed 4-14-08; 8:45 am]

BILLING CODE 4510-FR-P